DEPARTMENT OF TRANSPORTATION

Federal Aviation Administration

14 CFR Part 71

[Docket No. FAA-2021-0816; Airspace Docket No. 21-ANM-27]

RIN 2120-AA66

Modification of Class D and Class E Airspace, and Establishment of Class E Airspace; Southwest Oregon Regional Airport, OR

AGENCY: Federal Aviation Administration (FAA), DOT.

ACTION: Final rule.

SUMMARY: This action modifies the Class D and Class E surface airspace at Southwest Oregon Regional Airport, North Bend, OR. It also modifies the Class E airspace by establishing an area that is designated as an extension to a Class D or Class E surface area, and modifies the Class E airspace extending upward from 700 feet above the surface. Lastly, this action removes navigational aids (NAVAID) from the legal description of the Class E2 and Class E5 text headers, updates the Class D, Class E2, and Class E5 airspace legal descriptions, and establishes Class E4 airspace. This action ensures the safety and management of instrument flight rules (IFR) operations within the National Airspace System.

DATES: Effective 0901 UTC, May 19, 2022. The Director of the Federal Register approves this incorporation by reference action under 1 CFR part 51, subject to the annual revision of FAA Order 7400.11 and publication of conforming amendments.

ADDRESSES: FAA Order JO 7400.11F, Airspace Designations and Reporting Points, and subsequent amendments can be viewed online at https://www.faa.gov/air_traffic/publications/. For further information, you can contact the Airspace Policy Group, Federal Aviation Administration, 800 Independence Avenue SW, Washington, DC 20591; telephone: (202) 267-8783. FAA Order JO 7400.11F is also available for inspection at the National Archives and Records Administration (NARA). For information on the availability of FAA Order JO 7400.11F at NARA, email fr.inspection@nara.gov or go to https://www.archives.gov/federal-register/cfr/ibr-locations.html.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would modify Class D and Class E airspace to support IFR operations at Southwest Oregon Regional Airport, North Bend, OR.

History

The FAA published a notice of proposed rulemaking (NPRM) in the Federal Register (86 FR 59672; October 28, 2021) for FAA-2021-0816 to modify the Class D and Class E surface airspace, establish an area that is designated as an extension to a Class D or Class E surface area, modify the Class E airspace extending upward from 700 feet above the surface, remove navigational aids (NAVAID) from the legal description of the Class E2 and Class E5 text headers, update the Class D, Class E2, and Class E5 airspace legal descriptions, and establish Class E4 airspace at Southwest Oregon Regional Airport, North Bend, OR. Interested parties were invited to participate in this rulemaking effort by submitting written comments on the proposal to the FAA. No comments were received.

Subsequent to publication of the NPRM in the Federal Register (86 FR 59672; October 28, 2021) for FAA-2021-0816, the FAA identified a discrepancy with the assigned Airspace Docket Number. In the NPRM, the Airspace Docket Number is listed as 21-AWP-27, which is incorrect. Oregon is assigned to the FAA's Northwest Mountain Region. The correct Airspace Docket Number is 21-ANM-27. Additionally, the FAA's definition of the acronym “NOTAM” changed from “Notice to Airmen” to “Notice to Air Missions” and the legal description in the NPRM is not correct. The phrase “Notice to Air Missions” is now used in the legal descriptions for the Class D and Class E2 surface areas at Southwest Oregon Regional Airport to reflect this change.

Class D, Class E2, Class E4, and Class E5 airspace designations are published in paragraphs 5000, 6002, 6004, and 6005, respectively, of FAA Order JO 7400.11F, dated August 10, 2021, and effective September 15, 2021, which is incorporated by reference in 14 CFR 71.1. The Class D and Class E airspace designations listed in this document will be published subsequently in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

The FAA is amending 14 CFR part 71 by modifying the Class D airspace at Southwest Oregon Regional Airport, North Bend, OR. To properly contain departing IFR aircraft flying toward or over rising terrain, the Class D will be extended to the east and southeast of the airport.

This action also modifies the Class E airspace designated as a surface area. The Class E surface area legal description will be coincident with the Class D legal description to properly contain departing IFR aircraft flying toward or over rising terrain.

Next, this action modifies the Class E airspace by establishing an area that is designated as an extension to a Class D or Class E surface area to properly contain IFR arrivals; therefore, an extension east and another southwest of the airport will be established. The extensions are designed to contain arriving IFR aircraft when descending below 1,000 feet above the surface on the ILS or LOC Runway 5 and the VOR-B procedures.

This action also modifies the Class E airspace extending upward from 700 feet above the surface. This airspace is designed to contain departing IFR aircraft until reaching 1,200 feet above the surface and arriving IFR aircraft descending below 1,500 feet above the surface. The Class E radius will be modified, and extensions to the northeast, east, southeast, south, southwest, and west of the airport will be established to contain IFR departures.

Additionally, this action removes the North Bend VORTAC and Emire LOM/NDB from the Class E2 text header and airspace description. The NAVAIDs are not required to describe the airspace area, and their removal simplifies the airspace's legal description.

This action also removes the North Bend VORTAC from the Class E5 text header and airspace description, and replaces it with the Southwest Oregon Regional Airport's Airport Reference Point coordinates. The NAVAID is not required to describe the airspace area, and its removal simplifies the airspace's legal description.

Lastly, this action makes an administrative update to replace the term “Airport/Facility Directory” in the last line of the Class D and Class E2 airspace descriptions with the term “Chart Supplement.”

FAA Order JO 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant the preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 5000 Class D Airspace.

* * * * *

ANM OR D North Bend, OR [Amended]

Southwest Oregon Regional Airport, OR

(Lat. 43°25′01″ N, long. 124°14′49″ W)

Sunnyhill Airport, OR

(Lat. 43°28′59″ N, long. 124°12′10″ W)

That airspace extending upward from the surface to and including 2,500 feet MSL within a 4.2-mile radius of the Southwest Oregon Regional Airport, and within 1.8 miles each side of the 059° bearing from the airport, extending from the 4.2-mile radius to 5.9 miles northeast of the airport, and within 2.9 miles each side of the 159° bearing from the airport, extending from the 4.2-mile radius to 6.4 miles south of the airport, excluding that airspace within a 0.9-mile radius of Sunnyhill Airport below 1,300 feet MSL. This Class D airspace area is effective during the specific dates and times established, in advance, by a Notice to Air Missions. The effective date and time will thereafter be continuously published in the Chart Supplement.

Paragraph 6002 Class E Airspace Areas Designated as Surface Areas.

* * * * *

ANM OR E2 North Bend, OR [Amended]

Southwest Oregon Regional Airport, OR

(Lat. 43°25′01″ N, long. 124°14′49″ W)

Sunnyhill Airport, OR

(Lat. 43°28′59″ N, long. 124°12′10″ W)

That airspace extending upward from the surface within a 4.2-mile radius of the Southwest Oregon Regional Airport, and within 1.8 miles each side of the 059° bearing from the airport, extending from the 4.2-mile radius to 5.9 miles northeast of the airport, and within 2.9 miles each side of the 159° bearing from the airport, extending from the 4.2-mile radius to 6.4 miles south of the airport, excluding that airspace within a 0.9-mile radius of Sunnyhill Airport below 1,300 feet MSL. This Class E airspace area is effective during the specific dates and times established in advance by a Notice to Air Missions. The effective date and time will thereafter be continuously published in the Chart Supplement.

Paragraph 6004 Class E Airspace Areas Designated as an Extension to a Class D or Class E Surface Area.

* * * * *

ANM OR E4 North Bend, OR [New]

Southwest Oregon Regional Airport, OR

(Lat. 43°25′01″ N, long. 124°14′49″ W)

That airspace upward from the surface within 3.6 miles north and 3.5 miles south of the 092° bearing from the airport, extending from the Southwest Oregon Regional Airport Class D 4.2-mile radius to 11.7 miles east of the airport, and within 2.0 miles southeast and 2.1 miles northwest of the 242° bearing from the airport, extending from the Class D 4.2-mile radius to 9.4 miles southwest of the airport.

Paragraph 6005 Class E Airspace Areas Extending Upward From 700 Feet or More Above the Surface of the Earth.

* * * * *

ANM OR E5 North Bend, OR [Amended]

Southwest Oregon Regional Airport, OR

(Lat. 43°25′01″ N, long. 124°14′49″ W)

That airspace extending upward from 700 feet above the surface within a 9-mile radius of the airport, and within 2.0 miles northwest and 2.6 miles southeast of the 058° bearing from the airport, extending from the 9-mile radius to 10.4 miles northeast of the airport, and within 3.8 miles north and 3.7 miles south of the 92° bearing from the airport, extending from the 9-mile radius to 12.7 miles east of the airport, and within 1.9 miles each side of the 149° bearing from the airport, extending from the 9-mile radius to 12.1 miles southeast of the airport, and within 3.0 miles each side of the 199° bearing from the airport, extending from the 9-mile radius to 15 miles south of the airport, and within 8.1 miles southeast and 3.9 miles northwest of the 241° bearing from the airport, extending from the 9-mile radius to 19.2 miles southwest of the airport, and within 3.3 miles each side of the 275° bearing from the airport, extending from the 9-mile radius to 12.1 miles west of the airport.

Issued in Des Moines, Washington, on February 24, 2022.
B.G. Chew,
Acting Group Manager, Operations Support Group, Western Service Center.

[FR Doc. 2022-04326 Filed 3-2-22; 8:45 am]

BILLING CODE 4910-13-P